DEPARTMENT OF HEALTH AND HUMAN SERVICES

Substance Abuse and Mental Health Services Administration

Agency Information Collection Activities: Proposed Collection; Comment Request

In compliance with section 3506(c)(2)(A) of the Paperwork Reduction Act of 1995 concerning opportunity for public comment on proposed collections of information, the Substance Abuse and Mental Health Services Administration will publish periodic summaries of proposed projects. To request more information on the proposed projects or to obtain a copy of the information collection plans, call the SAMHSA Reports Clearance Officer on (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: National Evaluation of the Comprehensive Community Mental Health Services for Children and Their Families Program: Phase V—NEW

The Substance Abuse and Mental Health Services Administration (SAMHSA), Center of Mental Health is responsible for the national evaluation of the Comprehensive Community Mental Health Services for Children and Their Families Program that will collect data on child mental health outcomes, family life, and service system development and performance. Data will be collected on 25 service systems, and roughly 7310 children and families.

The data collection for this evaluation will be conducted over a five-year period. The core of service system data will be collected every 18 to 24 months throughout the 5-year evaluation period, with a sustainability survey conducted in selected years. Service delivery and system variables of interest include the following: maturity of system of care development, adherence to the system of care program model, and client service experience. The length of time that individual families will participate in the study ranges from 18 to 36 months depending on when they enter the evaluation. Child and family outcomes of interest will be collected at intake and during subsequent follow-up interviews at six-month intervals. Client service experience information is collected at these follow-up interviews. Measures included in an outcome interview are determined by the type of assessment (intake or follow up), child's age, and whether the respondent is the caregiver or a youth.

The outcome measures include the following: Child symptomatology and functioning, family functioning, material resources, and caregiver strain. The caregiver interview package includes the Caregiver Information Questionnaire, Child Behavior Checklist, Behavioral and Emotional Rating Scale (BERS), Education Questionnaire, Columbia Impairment Questionnaire, Living Situations Questionnaire, Family Life Questionnaire, and Caregiver Strain Questionnaire (caregivers of children under age 6 complete the Vineland Screener to assess development, and do not complete the BERS) at intake, and also complete the Multi-service Sector Contacts Form, Culturally Competence and Service Provision Questionnaire and the Youth Services Survey (a national outcome measurement tool). The Youth Interview package includes the Youth Information Questionnaire, Revised Children's Manifest Anxiety Scale, Reynolds Depression Scale, BERS (youth version), Delinquency Survey, Substance Use Survey, GAIN-Quick: Substance Dependence Scale, and Youth Services Survey (youth version).

In addition the evaluation will include two special studies: (1) An evidence-based practices study will examine provider use of evidence-based practices, community readiness and implementation of evidence-based practices, and consumer experience with these practices; (2) A cultural and linguistic competence study will examine the extent to which the cultural and linguistic characteristics of communities influence program implementation and provider adaptation of evidence-based treatments, and provider service delivery decisions based on provider culture and language. The national evaluation measures address the national outcome measures for mental health programs as currently established by SAMHSA.

Internet-based technology will be used for data entry and management, and for collecting data using Web-based surveys. The average annual respondent burden with detail provided about burden contributed by specific measures is estimated below. The estimate reflects the average number of respondents in each respondent category, the average number of responses per respondent per year, the average length time it will take for each response, and the total average annual burden for each category of respondent, and for all categories of respondents combined.

Estimate of Respondent Burden
[Note: Total burden is annualized over a 5-year period.]
Instrument | Respondent | Number of respondents | Total average number of responses per respondent | Hours per response | Total burden hours | 5 year average annual burden hours
System-of-care Assessment:
Interview Guides and Data Collection Forms | Key site informants | 525 | 3 | 1.00 | 1,575 | 315
Interagency Collaboration Scale (IACS) | Key site informants | 525 | 3 | 0.13 | 210 | 42
Cross-sectional Descriptive Study:
Caregiver Information Questionnaire (CIQ-IC) | Caregiver | 7,310 | 1 | 0.283 | 2,069 | 414
Caregiver Information Questionnaire Followup (CIQ-FC) | Caregiver | 7,310 | 5 | 0.200 | 7,310 | 1,462
Child and Family Outcome Study:
Caregiver Strain Questionnaire (CGSQ) | Caregiver | 7,310 | 6 | 0.167 | 7,325 | 1,465
Child Behavior Checklist (CBCL)/Child Behavior Checklist 1½-5 (CBCL 1½-5) | Caregiver | 7,310 | 6 | 0.333 | 14,605 | 2,921
Education Questionnaire (EQ) | Caregiver | 7,310 | 6 | 0.333 | 14,605 | 2,921
Living Situations Questionnaire (LSQ) | Caregiver | 7,310 | 6 | 0.083 | 3,640 | 728
The Family Life Questionnaire (FLQ) | Caregiver | 7,310 | 6 | 0.050 | 2,193 | 439
Behavioral and Emotional Rating Scale (BERS) | Caregiver | 6,945 | 6 | 0.167 | 6,958 | 1,392
Columbia Impairment Scale (CIS) | Caregiver | 6,945 | 6 | 0.083 | 3,472 | 694
The Vineland Screener (VS) | Caregiver | 283 | 5 | 0.250 | 456 | 91
Delinquency Survey (DS) | Youth | 4,386 | 6 | 0.167 | 4,394 | 879
Behavioral and Emotional Rating Scale—Second Edition, Youth Rating Scale (BERS-2) | Youth | 4,386 | 6 | 0.167 | 4,395 | 879
Gain-quick Substance Related Issues (Gain SRI) | Youth | 4,386 | 6 | 0.083 | 2,184 | 437
Substance Use Scale (SUS) | Youth | 4,386 | 6 | 0.100 | 2,632 | 526
Revised Children's Manifest Anxiety Scales (RCMAS) | Youth | 4,386 | 6 | 0.050 | 1,316 | 263
Reynolds Adolescent Depression Scale—Second Edition (RADS-2) | Youth | 4,386 | 6 | 0.050 | 1,315 | 263
Youth Information Questionnaire (YIQ-I) | Youth | 4,386 | 1 | 0.167 | 732 | 146
Youth Information Questionnaire (YIQ-F) | Youth | 4,386 | 5 | 0.167 | 3,662 | 732
Service Experience Study:
Multi-Sector Service Contacts (MSSC) | Caregiver | 7,310 | 5 | 0.250 | 9,137 | 1,828
Evidence-Based Practice Measure (EBPEM) | Caregiver | 7,310 | 5 | 0.167 | 6,092 | 1,218
Cultural Competence and Service Provision Questionnaire (CCSP) | Caregiver | 7,310 | 5 | 0.167 | 6,092 | 1,218
Youth Services Survey—Family (YSS-F) | Caregiver | 7,310 | 5 | 0.117 | 4,276 | 855
Youth Services Survey (YSS) | Youth | 4,386 | 5 | 0.083 | 1,820 | 364
Evidence Based Practices Study:
Evidence Based Treatment Survey (EBT) | Provider | 1,125 | 3 | 0.333 | 1,124 | 224
Evidence-Based Provider Attitudes Survey (EBPAS) | Provider | 1,125 | 3 | 0.083 | 280 | 56
Organizational Readiness for Change Scale (ORC-S) | Provider | 1,125 | 3 | 0.417 | 1,407 | 281
Organizational Readiness for Change Scale (ORC-D) | Administrators/Managers | 75 | 3 | 0.417 | 94 | 19
Sustainability Study:
Sustainability Survey—Caregiver | Caregiver | 25 | 3 | 0.500 | 38 | 8
Sustainability Survey—Provider | Provider/Administrator | 75 | 3 | 0.500 | 112 | 23

| Number of distinct respondents | Number of response per respondent | Average burden per response (hours) | Total average annual burden (hours)
Summary of Annualized Burden Estimates for 5 Years
Caregivers | 7,310 | 1 | 2.31 | 17,654
Youth | 4,386 | 1 | 0.71 | 3,247
Provider/Administrators | 1,725 | 1 | 0.93 | 961
Total Summary | 13,421 | 133 |  | 109,308
Total Annual Average Summary | 2,684 | 27 |  | 21,861

Send comments to Summer King, SAMHSA Reports Clearance Officer, Room 71-1044, One Choke Cherry Road, Rockville, MD 20857. Written comments should be received within 60 days of this notice.

Dated: January 20, 2006.
Anna Marsh,
Director, Office of Program Services.

[FR Doc. E6-965 Filed 1-25-06; 8:45 am]

BILLING CODE 4162-20-P